DEPARTMENT OF HEALTH AND HUMAN SERVICES

Meeting of the Tick-Borne Disease Working Group

AGENCY: Office of the Assistant Secretary for Health, Office of the Secretary, Department of Health and Human Services.

ACTION: Notice.

SUMMARY: As stipulated by the Federal Advisory Committee Act, the Department of Health and Human Services (HHS) is hereby giving notice that the Tick-Borne Disease Working Group (Working Group) will hold a meeting. The meeting will be open to the public. For this meeting, Working Group members will focus on plans to develop the next report to the HHS Secretary and Congress on federal tick-borne activities and research, taking into consideration the 2018 report. The 2020 report will also address a wide range of federal activities and research related to tick-borne diseases, such as, surveillance, prevention, diagnosis, diagnostics, and treatment; identify gaps in tick-borne disease research; and provide recommendations to the HHS Secretary regarding changes or improvements to such activities and research. In developing the report, the Working Group will solicit stakeholder input.

DATES: The meeting will be held on June 4, 2019, from 8:30 a.m. to 5:00 p.m. ET (times are tentative and subject to change). The confirmed times and agenda items for the meeting will be posted on the website for the Working Group at https://www.hhs.gov/ash/advisory-committees/tickbornedisease/meetings/2019-6-4/index.html when this information becomes available.

ADDRESSES: The meeting will be held at the Holiday Inn Washington-Capitol, 550 C Street SW, Washington, DC 20024. Members of the public may also attend the meeting via webcast. Instructions for attending via webcast will be posted one week prior to the meeting at https://www.hhs.gov/ash/advisory-committees/tickbornedisease/meetings/2019-6-4/index.html.

FOR FURTHER INFORMATION CONTACT: James Berger, Designated Federal Officer for the Working Group; Office of HIV/AIDS and Infectious Disease Policy, Office of the Assistant Secretary for Health, Department of Health and Human Services, Mary E Switzer Building, 330 C Street SW, Suite L100, Washington, DC 20024. Email: tickbornedisease@hhs.gov; Phone: 202-795-7697.

SUPPLEMENTARY INFORMATION: In-person attendance at the meeting is limited to space available; therefore, preregistration for public members is advisable and can be accomplished by registering at https://www.eventbrite.com/e/tick-borne-disease-working-group-meeting-june-4-2019-meeting-9-tickets-60745681970. On the day of the meeting, seating will be provided first to persons who have preregistered. People who have not preregistered will be accommodated on a first come, first served basis if additional seats are still available 10 minutes before the meeting starts. Non-U.S. citizens who plan to attend in person are required to provide additional information and must notify the Working Group support staff via email at tickbornedisease@hhs.gov before May 4, 2019.

The public will have an opportunity to present their views to the Working Group during the meeting's public comment session or by submitting their views in writing. Comments should be pertinent to the meeting discussion. Persons who wish to provide in-person or written public comment should review instructions at https://www.hhs.gov/ash/advisory-committees/tickbornedisease/meetings/2019-6-4/index.html and respond by midnight Tuesday, May 28, 2019, ET. In-person comments will be limited to three minutes each to accommodate as many speakers as possible during the 30 minute session. Written public comments will be accessible to the Working Group members and public on the Working Group web page prior to the meeting.

Background and Authority: The Tick-Borne Disease Working Group was established on August 10, 2017, in accordance with Section 2062 of the 21st Century Cures Act, and the Federal Advisory Committee Act, 5 U.S.C. App., as amended, to provide expertise and review federal efforts related to tick-borne diseases to help ensure interagency coordination and minimize overlap, examine research priorities, and identify and address unmet needs. The Working Group is required to submit a report to the HHS Secretary and Congress on their findings and any recommendations for the federal response to tick-borne disease every two years.

Dated: April 26, 2019.
James Berger,
Designated Federal Officer, Tick-Borne Disease Working Group, Senior Advisor for Blood and Tissue Policy, Office of HIV/AIDS and Infectious Disease Policy.

[FR Doc. 2019-09545 Filed 5-8-19; 8:45 am]

BILLING CODE 4150-28-P